DEPARTMENT OF AGRICULTURE

Food and Nutrition Service

7 CFR Part 250

[FNS-2007-0039]

RIN 0584-AD45

Management of Donated Foods in Child Nutrition Programs, the Nutrition Services Incentive Program, and Charitable Institutions; Approval of Information Collection Request

AGENCY: Food and Nutrition Service, USDA.

ACTION: Final rule; notice of approval of Information Collection Request (ICR).

SUMMARY: The final rule entitled Management of Donated Foods in Child Nutrition Programs, the Nutrition Services Incentive Program, and Charitable Institutions was published on August 8, 2008. The Office of Management and Budget approved and cleared the associated information collection requirements (ICR) on October 14, 2008. This document announces approval of the ICR.

DATES: The ICR associated with the final rule published in the Federal Register on August 8, 2008 at 73 FR 46169, was approved and cleared by OMB on October 14, 2008, under OMB Control Number 0584-0293.

FOR FURTHER INFORMATION CONTACT: Lillie F. Ragan, Assistant Branch Chief, Policy Branch, Food Distribution Division, Food and Nutrition Service, USDA, 3101 Park Center Drive, Room 500, Alexandria, Virginia 22302, (703) 305-2662, or Lillie.Ragan@fns.usda.gov.

Dated: December 2, 2008.
E. Enrique Gomez,
Acting Administrator, Food and Nutrition Service.

[FR Doc. E8-29089 Filed 12-8-08; 8:45 am]

BILLING CODE 3410-30-P